DEPARTMENT OF AGRICULTURE

Submission for OMB Review; Comment Request

October 26, 2020.

The Department of Agriculture has submitted the following information collection requirement(s) to OMB for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by November 30, 2020 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Supplemental Nutrition Assistance Program Forms: Applications, Periodic Reporting, and Notices.

OMB Control Number: 0584-0064.

Summary of Collection: The Food and Nutrition Act of 2008 (the Act), as amended, specifies national eligibility standards and imposes certain administrative requirements on State agencies in administering the program. Information must be collected from households to assure that they are eligible for the program and that they receive the correct amount of Supplemental Nutrition Assistance Program (SNAP) benefits. Information collected is limited to that necessary for the administration and enforcement of the SNAP Program. The Federal procedures for implementing the application and certification procedures in the Act are in Parts 271, 272, and 273 of the Title 7 of the Code of Federal Register.

Need and Use of the Information: FNS will collect information to determine the eligibility of households for the SNAP program and to determine the correct benefit levels for eligible households. If information is not collected to certify households in accordance with the Act or we change the frequency of information or reporting requirements as they relate to the application, certification, and continue eligibility of households would result in a direct violation of the Act and its implementing regulations. Further, benefits could be overissued or underissued for a long period of time if necessary information is not collected or actions are not taken timely.

Description of Respondents: 53 State, Local, and Tribal Government; 19,701,724 Individuals or Households.

Number of Respondents: 19,701,777.

Frequency of Responses: Recordkeeping; Reporting: On occasion; Monthly; Quarterly.

Total Burden Hours: 124,187,297.

Ruth Brown,
Departmental Information Collection Clearance Officer.

[FR Doc. 2020-23943 Filed 10-29-20; 8:45 am]

BILLING CODE 3410-30-P